DEPARTMENT OF COMMERCE

Foreign-Trade Zones Board

[Order No. 2129]

Grant of Authority; Establishment of a Foreign-Trade Zone under the Alternative Site Framework; Smith County, Texas

Pursuant to its authority under the Foreign-Trade Zones Act of June 18, 1934, as amended (19 U.S.C. 81a-81u), the Foreign-Trade Zones Board (the Board) adopts the following Order:

Whereas, the Foreign-Trade Zones (FTZ) Act provides for “...the establishment... of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR 400.2(c)) as an option for the establishment or reorganization of zones;

Whereas, the Tyler Economic Development Council (the Grantee), a non-profit corporation, has made application to the Board (B-69-2021, docketed October 28, 2021) requesting the establishment of a foreign-trade zone under the ASF with a service area that encompasses a portion of Smith County, Texas, adjacent to the Shreveport-Bossier City Customs and Border Protection port of entry;

Whereas, notice inviting public comment has been given in the Federal Register (86 FR 60791-60792, November 4, 2021) and the application has been processed pursuant to the FTZ Act and the Board's regulations; and,

Whereas, the Board adopts the findings and recommendations of the examiners' report, and finds that the requirements of the FTZ Act and the Board's regulations are satisfied;

Now, therefore, the Board hereby grants to the Grantee the privilege of establishing a foreign-trade zone, designated on the records of the Board as Foreign-Trade Zone No. 299, as described in the application, and subject to the FTZ Act and the Board's regulations, including Section 400.13, and to the Board's standard 2,000-acre activation limit.

Dated: September 1, 2022.
Gina M. Raimondo,
Secretary of Commerce, Chairman and Executive Officer, Foreign-Trade Zones Board.

[FR Doc. 2022-19567 Filed 9-9-22; 8:45 am]

BILLING CODE 3510-DS-P